DEPARTMENT OF HOMELAND SECURITY

Coast Guard

33 CFR Part 117

[Docket No. USCG-2013-0607]

Drawbridge Operation Regulation; Delaware River, NJ; Correction

AGENCY: Coast Guard, DHS.

ACTION: Notice of deviation from drawbridge regulation; correction.

SUMMARY: On July 15, 2013, the Coast Guard published a temporary deviation entitled “Drawbridge Operation Regulation; Delaware River, NJ” for the operating schedule that governs the bascule span of the Tacony-Palmyra Bridge, across the Delaware River, between the townships of Tacony, PA and Palmyra, NJ. The deviation cited incorrect vertical clearances in the navigable channel. This notice corrects that error.

DATES: Effective August 9, 2013.

FOR FURTHER INFORMATION CONTACT: If you have questions on this temporary deviation, call or email Terrance Knowles, Environmental Protection Specialist, Coast Guard; telephone 757-398-6587, email Terrance.A.Knowles@uscg.mil. If you have questions on viewing the docket, call Barbara Hairston, Program Manager, Docket Operations, at 202-366-9826.

SUPPLEMENTARY INFORMATION: On July 15, 2013 (78 FR 42010), the Coast Guard published a temporary deviation from the operating schedule that governs the bascule span of the Tacony-Palmyra Bridge (Route 73), across the Delaware River, mile 107.2, between the townships of Tacony, PA and Palmyra, NJ. The deviation cited incorrect vertical clearances in the navigable channel during the rehabilitation project. This notice corrects that error. Subsequent to the publication of that notice, the Coast Guard discovered that the two vertical clearances, 53 feet and 50 feet above mean high water (MHW), were incorrect.

Correction

In the notice (FR Doc. USCG-2013-0607) published on July 15, 2013 (78 FR 42010), make the following corrections on page 42011. In the SUPPLEMENTARY INFORMATION section, paragraph two, the vertical clearance in the closed position to vessels is 50 feet above MHW (not 53 feet). And, the clearance may be reduced by approximately 3 feet to 47 (not 50 feet) above MHW.

Dated: July 19, 2013.
Waverly W. Gregory, Jr.,
Bridge Program Manager, Fifth Coast Guard District.

[FR Doc. 2013-19356 Filed 8-8-13; 8:45 am]

BILLING CODE 9110-04-P